UNITED STATES INSTITUTE OF PEACE

Notice of Meeting

AGENCY: United States Institute of Peace.

Date/Time: Tuesday, December 4, 2007, 9 a.m.-11 a.m.

Location: 1200 17th Street, NW., Suite 200, Washington, DC 20036-3011.

Status: Closed Meeting—Pursuant to Subsection (c) of Section 552(b) of Title 5, United States Code, as provided in subsection 1706(h)(3) of the United States Institute of Peace Act, Public Law 98-525.

Agenda: December 4, 2007 Board Meeting; Consideration of Building Committee Recommendation.

Contact: Susan F. Douglas, HQ Project Office, Telephone: (202) 429-7172.

Dated: November 15, 2007.
Patricia P. Thomson,
Executive Vice President, United States Institute of Peace.

[FR Doc. 07-5818 Filed 11-20-07; 10:31 am]

BILLING CODE 6820-AR-M